DEPARTMENT OF LABOR

Employment and Training Administration

[TA-W-53,336]

Henredon Furniture, Industries, Spruce Pine, NC; Notice of Termination of Investigation

Pursuant to section 221 of the Trade Act of 1974, an investigation was initiated on October 24, 2003, in response to a petition filed by a company official on behalf of workers at Henredon Furniture, Industries, Spruce Pine, North Carolina (TA-W-53,336).

The petitioner has requested that the petition be withdrawn. Consequently, further investigation in this case would serve no purpose, and the investigation has been terminated.

Signed in Washington, DC, this 18th day of November, 2003.
Linda G. Poole,
Certifying Officer, Division of Trade Adjustment Assistance.

[FR Doc. 03-29667 Filed 11-26-03; 8:45 am]

BILLING CODE 4510-30-P